DEPARTMENT OF HOMELAND SECURITY

Coast Guard

33 CFR Part 165

[Docket Number USCG-2017-1028]

RIN 1625-AA00

Safety Zone; Atlantic Ocean, Rehoboth Beach, DE

AGENCY: Coast Guard, DHS.

ACTION: Correcting amendments.

SUMMARY: On November 9, 2017, the Coast Guard published a rule establishing temporary safety zones in the Atlantic Ocean, off the coast of Rehoboth Beach, DE and in Breakwater Harbor near Cape Henlopen. The rule was made enforceable from November 6, 2017, through February 28, 2018. However, in regulatory text the February date was mistakenly given as February 28, 2017. This document corrects that error.

DATES: Effective November 16, 2017.

FOR FURTHER INFORMATION CONTACT: If you have questions on this rule, call or email Petty Officer Edmund Ofalt, Waterways Management Branch, U.S. Coast Guard Sector Delaware Bay; telephone (215) 271-4814, email Edmund.J.Ofalt@uscg.mil.

SUPPLEMENTARY INFORMATION: In its temporary final rule published on November 9, 2017, the Coast Guard established temporary safety zones near dredging and pipe laying operations, diving operations, and underwater construction operations (82 FR 52005). The DATES section of the rule and the preamble both gave the expiration date of the temporary rule as February 28, 2018. In the regulatory text provided for the Code of Federal Regulations, however, that date was mistakenly given as February 28, 2017. This document corrects the error. Because the temporary final rule uses the correct date in all other instances, and because February 2017 has already passed, the Coast Guard finds it unnecessary to offer prior notice and opportunity for public comment on this correction.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191; 33 CFR 1.05-1, 6.04-1, 6.04-6, and 160.5; Department of Homeland Security Delegation No. 0170.1.

§ 165.T05-1028 [Amended]

2. In § 165.T05-1028(d), remove the date “February 28, 2017” and add in its place the date “February 28, 2018”.

Katia G. Kroutil,
Chief, Office of Regulations and Administrative Law, U.S. Coast Guard.

[FR Doc. 2017-24805 Filed 11-15-17; 8:45 am]

BILLING CODE 9110-04-P